OFFICE OF THE UNITED STATES TRADE REPRESENTATIVE

Notice of Continuation and Request for Nominations for the Trade and Environment Policy Advisory Committee

AGENCY: Office of the United States Trade Representative.

ACTION: Notice and request for applications.

SUMMARY: The Office of the United States Trade Representative (USTR) expects to establish a new two-year charter term and is accepting applications from qualified individuals interested in serving as a member of the Trade and Environment Policy Advisory Committee (TEPAC). The TEPAC is a trade advisory committee that provides general policy advice to the U.S. Trade Representative on trade policy matters that have a significant impact on the environment.

DATES: USTR will accept nominations on a rolling basis for membership on the TEPAC for a new two-year charter term expected to expire in September 2025.

FOR FURTHER INFORMATION CONTACT: Amanda Mayhew, Office of Environment and Natural Resources, Amanda.B.Mayhew@ustr.eop.gov or (202) 395-9629, or Ethan Holmes, Director for Private Sector Engagement, at Ethan.M.Holmes@ustr.eop.gov.

SUPPLEMENTARY INFORMATION:

1. Background

Section 135(c)(1) of the Trade Act of 1974, as amended (19 U.S.C. 2155(c)(1)), authorizes the President to establish individual general trade policy advisory committees for industry, labor, agriculture, services, investment, defense, small business, and other interests, as appropriate, to provide general policy advice. The President delegated that authority to the U.S. Trade Representative in Executive Order 11846, section 4(d), issued on March 27, 1975. Pursuant to an executive order that renewed the TEPAC and extended Executive Order 12905 of March 25, 1994, the U.S. Trade Representative expects to establish a new two-year charter term for the TEPAC, which would end in September 2025.

The TEPAC is a trade advisory committee established to provide general policy advice to the U.S. Trade Representative on trade policy matters that have a significant impact on the environment. More specifically, the TEPAC provides general policy advice with respect to the effect on the environment of the implementation of trade agreements; negotiating objectives and bargaining positions before entering into trade agreements; the operation of any trade agreement once entered into, and other matters arising in connection with the development, implementation, and administration of the trade policy of the United States.

The TEPAC meets as needed, at the call either of the U.S. Trade Representative or their designee, or two-thirds of the TEPAC members, depending on various factors such as the level of activity of trade negotiations and the needs of the U.S. Trade Representative.

II. Membership

The TEPAC is composed of not more than 35 members, including, but not limited to, representatives from environmental interest groups (including environmental justice), industry (including the environmental technology and environmental services industries), agriculture, academia, consumer groups, services, non-governmental organizations, and others with expertise in trade and environment matters. USTR intends for the TEPAC to be broadly representative of key sectors and groups of the economy with an interest in trade and environmental policy issues. Fostering diversity, equity, inclusion and accessibility (DEIA) is one of the top priorities.

The U.S. Trade Representative appoints TEPAC members in consultation with relevant Cabinet Secretaries, as appropriate, for a term that will not exceed the duration of the charter. Members serve at the discretion of the U.S. Trade Representative. Individuals can be reappointed for any number of terms.

The U.S. Trade Representative is committed to a trade agenda that advances racial equity and supports underserved communities and will seek advice and recommendations on trade policies that eliminate social and economic structural barriers to equality and economic opportunity, and to better understand the projected impact of proposed trade policies on communities of color and underserved communities. The U.S. Trade Representative strongly encourages diverse backgrounds and perspectives and makes appointments to the TEPAC without regard to political affiliation and in accordance with equal opportunity practices that promote diversity, equity, inclusion, and accessibility. USTR strives to ensure balance in terms of sectors, demographics, and other factors relevant to USTR's needs.

TEPAC members serve without either compensation or reimbursement of expenses. Members are responsible for all expenses they incur to attend meetings or otherwise participate in TEPAC activities. Committee members must be able to obtain and maintain a security clearance in order to serve and have access to classified and trade sensitive documents. They must meet the eligibility requirements at the time of appointment and at all times during their term of service.

TEPAC members are appointed to represent their sponsoring U.S. entity's interests on trade and the environment, and thus USTR's foremost consideration for applicants is their ability to carry out the goals of section 135(c) of the Trade Act of 1974, as amended. Other criteria include the applicant's knowledge of and expertise in international trade issues as relevant to the work of the TEPAC and USTR. USTR anticipates that almost all TEPAC members will serve in a representative capacity with a limited number serving in an individual capacity as subject matter experts. These members, known as special government employees, are subject to conflict of interest rules and may have to complete a financial disclosure report.

III. Request for Nominations

USTR is soliciting nominations for membership on the TEPAC. To apply for membership, an applicant must meet the following eligibility criteria at the time of application and at all times during their term of service as a TEPAC member:

1. The person must be a U.S. citizen.

2. The person cannot be a full-time employee of a U.S. governmental entity.

3. If serving in an individual capacity, the person cannot be a federally registered lobbyist.

4. The person cannot be registered with the U.S. Department of Justice under the Foreign Agents Registration Act.

5. The person must be able to obtain and maintain a security clearance.

6. For representative members, who will comprise almost all of the TEPAC, the person must represent a U.S. organization whose members (or funders) have a demonstrated interest in issues relevant to trade and the environment or have personal experience or expertise in trade and the environment.

7. For eligibility purposes, a “U.S. organization” is an organization established under the laws of the United States, that is controlled by U.S. citizens, by another U.S. organization (or organizations), or by a U.S. entity (or entities), determined based on its board of directors (or comparable governing body), membership, and funding sources, as applicable. To qualify as a U.S. organization, more than 50 percent of the board of directors (or comparable governing body) and more than 50 percent of the membership of the organization to be represented must be U.S. citizens, U.S. organizations, or U.S. entities. Additionally, at least 50 percent of the organization's annual revenue must be attributable to nongovernmental U.S. sources.

8. For members who will serve in an individual capacity, the person must possess subject matter expertise regarding international trade and environmental issues.

In order to be considered for TEPAC membership, interested persons should submit the following to Amanda Mayhew, Office of Environment and Natural Resources, Amanda.B.Mayhew@ustr.eop.gov, and Ethan Holmes, Director for Private Sector Engagement, at Ethan.M.Holmes@ustr.eop.gov:

• Name, title, affiliation, and contact information of the individual requesting consideration.

• If applicable, a sponsor letter on the organization's letterhead containing a brief description of the manner in which international trade affects the organization and why USTR should consider the applicant for membership.

• The applicant's personal resume.

• An affirmative statement that the applicant and the organization they represent meet all eligibility requirements.

USTR will consider applicants who meet the eligibility criteria in accordance with equal opportunity practices that promote diversity, equity, inclusion, and accessibility, based on the following factors:

• Ability to represent the sponsoring U.S. entity's or U.S. organization's and its subsector's interests on trade and environmental matters.

• Knowledge of and experience in trade and environmental matters relevant to the work of the TEPAC and USTR.

• How they will contribute to trade policies that eliminate social and economic structural barriers to equality and economic opportunity and to understanding of the projected impact of proposed trade policies on communities of color and underserved communities.

• Ensuring that the TEPAC is balanced in terms of points of view, demographics, geography, and entity or organization size.

Roberto Soberanis,
Assistant U.S. Trade Representative for Intergovernmental Affairs and Public Engagement, Office of the United States Trade Representative.

[FR Doc. 2023-21652 Filed 9-29-23; 8:45 am]

BILLING CODE 3290-F3-P